ENVIRONMENTAL PROTECTION AGENCY

[OPP-1003-0112; FRL-7328-3]

The Association of American Pesticide Control Officials, State FIFRA Issues Research and Evaluation Group, Working Committee on Water Quality and Pesticide Disposal, and Pesticide Operations and Management Working Committee; Notice of Public Meeting

AGENCY: Environmental Protection Agency (EPA).

ACTION: Notices.

SUMMARY: The Association of American Pesticide Control Officials (AAPCO)/State FIFRA Issues Research and Evaluation Group (SFIREG) Working Committees on Water Quality and Pesticide Disposal (WC/WQ and PD) and Pesticide Operations & Management Working Committee (POM) will hold a 2-day meeting, beginning on October 27, 2003, and ending October 28, 2003. This notice announces the location and times for the meeting and sets forth the tentative agenda topics.

DATES: The meeting will be held on Monday, October 27, 2003, from 8:30 a.m. until 5 p.m. and October 28, 2003, from 8:30 a.m. until 5 p.m.

ADDRESSES: The meeting will be held at Days Inn Crystal City, 2000 Jefferson Davis Highway, Arlington, VA 22202.

FOR FURTHER INFORMATION CONTACT: Georgia McDuffie, Field and External Affairs Division (7506C), Office of Pesticide Programs, Environmental Protection Agency, 1200 Pennsylvania Ave., NW., Washington, DC 20460-0001; telephone number: (703) 605-0195; fax number: (703) 308-1850; e-mail address: mcduffie.georgia@epa.gov. or

Philip H. Gray, SFIREG Executive Secretary, P.O. Box 1249, Hardwick, VT 05843-1249; telephone number: (802) 472-6956; fax (802) 472-6957; e-mail address: aapco@plainfield.bypass.com.

SUPPLEMENTARY INFORMATION:

I. General Information

A. Does this Action Apply to Me?

You may be potentially affected by this action if you are interested in SFIREG's information exchange relationship with EPA regarding important issues related to human health, environmental exposure to pesticides, and insight into EPA's decision-making process are invited and encouraged to attend the meetings and participate as appropriate. If you have any questions regarding the applicability of this action to a particular entity, consult the person listed under FOR FURTHER INFORMATION CONTACT.

B. How Can I Get Copies of this Document and Other Related Information?

1. Docket. EPA has established an official public docket for this action under docket ID number OPP-2003-0112. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although, not all docket materials may be available electronically, you may still access any of the publicly available docket materials through the docket facility identified in Unit I.B.1. Once in the system, select “search,” then key in the appropriate docket ID number.

II. Tentative Agenda

This unit provides tentative agenda topics for the 2-day meeting.

1. WQ/PD issue team report.

2. National pesticide stewardship alliance conference report/label review manual and label language recommendations/discussions.

3. Clean air act presentation/recommendations and restrictions for burning.

4. CCA update(s) and risk assessment results/registration of alternatives active ingredient uses/disposal issues for old/new products.

6. Lab director's issue paper.

7. Method development and methods availability as registration criteria.

8. Office of General Council presentation re: CBI criteria and definitions.

9. Registration/cancellation policy and decisions (front end/back end issues).

10. Registration authority review/matrix - joint team creation.

11. Who, what, and why of the Pesticide Program Dialogue Committee and the mosquito labeling experience.

12. How to expand upon and utilize the Pesticide Program Dialogue Committee or other groups (the marketing and expansion/extension of SFIREG).

3. Atrazine eco-monitoring and mitigation issues/reregistration eligibility decisions, use of label language and best management practices to implement reregistration eligibility decision.

14. AAPCO annual meeting/SFIREG Report.

15. EPA briefing/state issues discussion. Endangered species status. Status and Results of Clean Water Act/FIFRA Guidance Policy. OW and OPP Working Group Activities/Progress.

11. EPA update/briefing:

a. Office of Pesticide Programs update.

b. Office of Enforcement Compliance Assurance update.

List of Subjects

Environmental protection, Pesticide and Pests.

Dated: September 15, 2003.
Jay S. Ellenberger,
Acting Director, Field and External Affairs Division, Office of Pesticide Programs.

[FR Doc. 03-24369 Filed 9-25-03; 8:45 am]

BILLING CODE 6560-50-S